DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Project: Evaluation of the Health Care for the Homeless Respite Pilot Initiative (OMB No. 0915-0269)—Extension

The Bureau of Primary Health Care (BPHC), Health Resources and Services Administration is conducting an extension of an evaluation of the Health Care for the Homeless (HCH) Respite Pilot Initiative. Data are being collected from the ten HCH grantees participating in the Pilot Initiative. The National Health Care for the Homeless Council is conducting the evaluation through a cooperative agreement with the BPHC. The evaluation focuses on assessing the effect of respite services on the health of homeless people as well as examining any differences in outcomes based on client or program characteristics. The evaluation is being conducted throughout the project period of Pilot Initiative.

The estimated response burden is as follows:

Type of respondent | Number of respondents | Response per respondent | Total responses | Hours per response | Total hour burden
HCH Grantees | 10 | 200 | 2,000 | 0.25 | 500
Program data | 10 | 1 | 10 | .5 | 5
Total | 10 |  | 2010 |  | 505

Written comments and recommendations concerning the proposed information collection should be sent within 30 days of this notice to: Desk Officer, Health Resources and Services Administration, Human Resources and Housing Branch, Office of Management and Budget, New Executive Office Building, Room 10235, Washington, DC 20503.

Dated: December 15, 2004.
Steven A. Pelovitz,
Associate Administrator, Office of Administration and Financial Management.

[FR Doc. 04-27869 Filed 12-20-04; 8:45 am]

BILLING CODE 4165-15-P